NUCLEAR REGULATORY COMMISSION

Notice of Availability of Interim Staff Guidance Documents for Fuel Cycle Facilities

AGENCY: Nuclear Regulatory Commission.

ACTION: Notice of availability.

FOR FURTHER INFORMATION CONTACT: Wilkins Smith, Project Manager, Technical Support Group, Division of Fuel Cycle Safety and Safeguards, Office of Nuclear Material Safety and Safeguards, U.S. Nuclear Regulatory Commission, Washington, DC 20005-0001. Telephone: (301) 415-5788; fax number: (301) 415-5370; e-mail: wrs@nrc.gov.

SUPPLEMENTARY INFORMATION:

I. Introduction

The Nuclear Regulatory Commission (NRC) plans to issue Interim Staff Guidance (ISG) documents for fuel cycle facilities. These ISG documents provide clarifying guidance to the NRC staff when reviewing licensee integrated safety assessments, license applications or amendment requests or other related licensing activities for fuel cycle facilities under subpart H of 10 CFR part 70. The NRC is soliciting public comments on the ISG documents which will be considered in the final versions or subsequent revisions.

II. Summary

The purpose of this notice is to provide the public an opportunity to review and comment on the draft Interim Staff Guidance documents for fuel cycle facilities. Interim Staff Guidance—01 provides guidance to NRC staff relative to methods for qualitative evaluation of likelihood in the context of a review of a license application or amendment request under 10 CFR part 70, subpart H. Interim Staff Guidance-02 provides guidance to NRC staff relative to accident sequences that have consequences below 10 CFR 70.61 performance requirements. Interim Staff Guidance—03 provides guidance to NRC staff relative to relationships between 10 CFR part 70, subpart H, nuclear criticality safety performance requirements and the double contingency principle. Interim Staff Guidance—05 provides guidance to NRC staff relative to additional reporting requirements of 10 CFR 70.74. Interim Staff Guidance—06 provides guidance to NRC staff relative to correcting performance deficiencies and implementing corrective measures. Interim Staff Guidance—07 provides guidance to NRC staff relative to rules of engagement for the integrated safety analysis.

III. Further Information

Documents related to this action are available electronically at the NRC's Electronic Reading Room at http://www.nrc.gov/reading-rm/adams.html. From this site, you can access the NRC's Agencywide Document Access and Management System (ADAMS), which provides text and image files of NRC's public documents. The ADAMS accession numbers for the documents related to this notice are provided in the following table. If you do not have access to ADAMS or if there are problems in accessing the documents located in ADAMS, contact the NRC Public Document Room (PDR) Reference staff at 1-800-397-4209, 301-415-4737, or by e-mail to pdr@nrc.gov.

Interim Staff Guidance | ADAMS accession number
Interim Staff Guidance—01 | ML042460008
Interim Staff Guidance—02 | ML042610008
Interim Staff Guidance—03 | ML042460011
Interim Staff Guidance—05 | ML042460012
Interim Staff Guidance—06 | ML042460014
Interim Staff Guidance—07 | ML042460015

These documents may also be viewed electronically on the public computers located at the NRC's PDR, O 1 F21, One White Flint North, 11555 Rockville Pike, Rockville, MD 20852. The PDR reproduction contractor will copy documents for a fee. Comments and questions should be directed to the NRC contact listed below by October 25, 2004. Comments received after this date will be considered if it is practical to do so, but assurance of consideration cannot be given to comments received after this date. Wilkins Smith, Project Manager, Technical Support Group, Division of Fuel Cycle Safety and Safeguards, Office of Nuclear Material Safety and Safeguards, U.S. Nuclear Regulatory Commission, Washington, DC 20005-0001. Comments can also be submitted by telephone, fax, or e-mail which are as follows: Telephone: (301) 415-5788; fax number: (301) 415-5370; e-mail: wrs@nrc.gov.

Dated at Rockville, Maryland this 17th day of September, 2004.
For the Nuclear Regulatory Commission.
Melanie A. Galloway,
Chief, Technical Support Group, Division of Fuel Cycle Safety and Safeguards, Office of Nuclear Material Safety and Safeguards.

[FR Doc. 04-21344 Filed 9-22-04; 8:45 am]

BILLING CODE 7590-01-P